DEPARTMENT OF STATE

[Public Notice: 7836]

Notice of Public Meeting on FY 2013 U.S. Refugee Admissions Program

There will be a meeting on the President's FY 2013 U.S. Refugee Admissions Program on Tuesday, May 1, 2012 from 2 p.m. to 4 p.m. The meeting will be held at the Refugee Processing Center, 1401 Wilson Boulevard, Suite 1100, Arlington, Virginia. The meeting's purpose is to hear the views of attendees on the appropriate size and scope of the FY 2013 U.S. Refugee Admissions Program.

Persons wishing to attend this meeting must notify the Bureau of Population, Refugees, and Migration at telephone (202) 453-9257 by 5 p.m. on Tuesday, April 24, 2012, to reserve a seat. Persons wishing to present written comments should submit them by 5 p.m. on Tuesday, April 24, 2012 via email to spruellda@state.gov or fax (202) 453-9393.

The use of any video or audio recording device, photographing device, or any other electronic or mechanical device designed for similar purposes is prohibited at Tuesday's event.

If you have questions about the public meeting, please contact Delicia Spruell, PRM/Admissions Program Officer at (202) 453-9257. Information about the U.S. Refugee Admissions Program may be found at http://www.state.gov/g/prm/.

Dated: March 22, 2012.
David Robinson,
Acting, Assistant Secretary, Bureau of Population, Refugees, and Migration, Department of State.

[FR Doc. 2012-7700 Filed 3-29-12; 8:45 am]

BILLING CODE 4710-33-P